ENVIRONMENTAL PROTECTION AGENCY

[ER-FRL-6656-9]

Environmental Impact Statements and Regulations; Availability of EPA Comments

Availability of EPA comments prepared pursuant to the Environmental Review Process (ERP), under Section 309 of the Clean Air Act and Section 102(2)(c) of the National Environmental Policy Act, as amended. Requests for copies of EPA comments can be directed to the Office of Federal Activities at (202) 564-7167. An explanation of the ratings assigned to draft environmental impact statements (EISs) was published in FR dated April 2, 2004 (69 FR 17403).

Draft EISs

ERP No. D-AFS-H65021-MO Rating LO, East Fredericktown Project, Shortleaf Pine Restoration, Forest Health Improvement, Treat Affected Stands and Recover Valuable Timber Products, Mark Twain National Forest, Potosi/Fredericktown Ranger District, Bollinger, Madison, St. Francois, and Ste. Genevieve Counties, MO.

Summary: EPA expressed no significant concerns with the proposed project.

ERP No. D-AFS-J65416-WY Rating EC2, Bighorn National Forest Revised Land and Resource Management Plan, Implementation, Big Horn Mountain Range, Bighorn National Forest, Johnson, Sheridan, Bighorn and Washakie Counties, WY.

Summary: EPA expressed environmental concerns with the potential for adverse impacts to water quality, aquatic resources, and terrestrial habitat. EPA expressed concerns with cumulative impacts to fish and wildlife, including the Canada lynx from the preferred alternative which proposes an 85 percent reduction in Roadless Area and greatly increases road construction and other soil disturbing activities, which can adversely impact water quality. The Final EIS should consider including a road density standard and additional mitigation measures to further improve desired condition on grazing lands.

ERP No. D-AFS-L65467-ID Rating EC2, Red Pines Project, Proposes to Implement Fuel Reduction Activities and Improve the Range of Watershed Activities, Nez Perce National Forest, Red River Ranger District, Idaho County, ID.

Summary: EPA expressed environmental concerns with potential increases in sediment to waterbodies, compliance with water quality standards, inconsistency with the Total Maximum Daily Load for the South Fork Clearwater River, watershed impacts associated with the Proposed Action (Alternative B), impacts on Endangered Species Act (ESA) listed salmonids and the uncertainties associated with modeling projections.

Final EISs

ERP No. F-AFS-L65388-WA Crystal Mountain Master Development Plan, To Provide Winter and Summer Recreational Use, Special-Use-Permit, Mt. Baker-Snoqualmie National Forest, Silver Creek Watershed, Pierce County, WA.

Summary: The Final EIS addressed many of EPA's concerns. However, EPA suggests that wildlife crossing structures be provided on SR 410 to minimize wildlife injury or mortality increase ecological connectivity where possible, and protect tribal treaty resources.

ERP No. F-BLM-J65387-CO Silverton Outdoor Learning and Recreation Center, Authorization for Long-Term Use of 1,300 acres for Backcountry-type Skiing, Summer Recreation and Educational Activities, Amendment of the San Juan/San Miguel Resource Management Plan, San Juan County, CO.

Summary: No formal comment letter was sent to the preparing agency.

ERP No. F-COE-E32180-FL Miami Harbor Navigation Improvements Project to Study the Feasibility of Widening and Deepening Portions of the Port, Miami-Dade County, FL.

Summary: EPA expressed concerns over the need for additional analysis of alternative channel widths, as well as construction techniques/designs. EPA also expressed concerns over the need for additional surveys of eelgrass habitat and an analysis of the physical capacity of the Key West ocean disposal site and the nature of the material to be used to construct the proposed artificial reefs.

Dated: October 19, 2004.
Ken Mittelholtz,
Environmental Protection Specialist, Office of Federal Activities.

[FR Doc. 04-23689 Filed 10-21-04; 8:45 am]

BILLING CODE 6560-50-P